DEPARTMENT OF TRANSPORTATION

Surface Transportation Board

[STB Finance Docket No. 35094]

The Kansas City Southern Railway Company—Acquisition and Operation Exemption—Columbus and Greenville Railway Company

AGENCY: Surface Transportation Board, DOT.

ACTION: Notice of exemption.

SUMMARY: Under 49 U.S.C. 10502, the Board is granting a petition for exemption from the prior approval requirements of 49 U.S.C. 11323 et seq., for The Kansas City Southern Railway Company (KCSR), a Class I rail carrier, to acquire and operate a 2.23-mile rail line owned by Columbus and Greenville Railway Company (CAGY), a Class III rail carrier, subject to CAGY's reservation of nonexclusive limited local trackage rights.¹ The rail line extends between, at one end, a connection between KCSR's Artesia Subdivision and CAGY's main track near KCSR milepost 230.4 and, at the other end, two connections between CAGY's main track and KCSR's Louisville Subdivision near KCSR milepost 88.5, near West Point, MS.²

¹ Pursuant to an agreement between petitioners, CAGY would be permitted to traverse the involved line via its reserved nonexclusive local trackage rights, but it would not be permitted to serve shippers on the line that had not been previously served when CAGY owned the line.

² The terminal mileposts are points on separate KCSR subdivisions to which the line connects at either end (CAGY has indicated that the line does not have mileposts of its own). The mileposts therefore cannot be used for purposes of calculating the actual mileage of the line.

DATES: Petitioner has asked for expedited consideration of the petition. Consequently, the exemption will be effective on December 20, 2007. Petitions to stay must be filed by December 19, 2007. Petitions to reopen must be filed by January 14, 2008.

ADDRESSES: An original and 10 copies of all pleadings, referring to STB Finance Docket No. 35094, must be filed with the Surface Transportation Board, 395 E Street, SW., Washington, DC 20423-0001. In addition, one copy of all pleadings must be served on petitioner's representative: William A. Mullins, 2401 Pennsylvania Ave., NW., Suite 300, Washington, DC 20037.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision served on December 13, 2007. To purchase a copy of the full decision, write, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at www.stb.dot.gov.

Decided: December 6, 2007.
By the Board, Chairman Nottingham, Vice Chairman Buttrey, and Commissioner Mulvey.
Vernon A. Williams,
Secretary.

[FR Doc. E7-24037 Filed 12-12-07; 8:45 am]

BILLING CODE 4915-01-P